FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Alpha Global Cargo Inc., 9990 NW. 14 Street, Ste. 110, Miami, FL 33172, Officers: Hans K. Bottger, President (Qualifying Individual), Bernardo De La Espriella, Vice President

Cala Investments, LLC, 2705 NW 109 Ave., Miami, FL 33172, Officer: Pedro Salcedo, Manager (Qualifying Individual)

HD EXP USA Inc., 501 Broad Ave., Ridgefield, NJ 07657, Officers: Man S. Kwak, President (Qualifying Individual), Dong H. Kang, Vice President

American Courier Express LLC, dba 1 Stop Pack N Ship, 785 Rockville Pike Ste. F, Rockville, MD 20852, Officer: Khosrow R. Ranjkesh, President (Qualifying Individual)

Port-Air Express Corporation, 1154 54th Street, Brooklyn, NY 11219, Officer: Eugene Weiss, President (Qualifying Individual)

Non-Vessel Operating Common Carrier and Ocean Freight Forwarder Transportation Intermediary Applicants

Agent's House International, Inc., 2120 Dennis Street, Jacksonville, FL 32204, Officer: Victoria Musgrave, Vice President (Qualifying Individual)

World Logistics Services Corporation, 132 East 43rd St., The Chrysler Building, New York, NY 10017, Officer: Steve Licursi, President (Qualifying Individual)

Estes Forwarding Worldwide LLC, 1100 Commerce Road, Richmond, VA 23224, Officer: Scott P. Fisher, Exec. VP (Qualifying Individual)

R+L Freight Services, LLC, 600 Gillam Road, Wilmington, OH 45177-0271, Officer: Lori J. Crawford, Vice President (Qualifying Individual)

South American Freight International, Inc., dba Global ASG Cargo, 9000 W. Flagler St., Miami, FL 33174, Officer: Roberto Illanes, Vice President (Qualifying Individual)

Dated: April 10, 2009.
Karen V. Gregory,
Secretary.

[FR Doc. E9-8591 Filed 4-14-09; 8:45 am]

BILLING CODE 6730-01-P